NATIONAL AERONAUTICS AND SPACE ADMINISTRATION

[Notice: (18-036)]

Notice of Intent To Grant Partially Exclusive Patent License

AGENCY: National Aeronautics and Space Administration.

ACTION: Notice of intent to grant partially exclusive patent license.

SUMMARY: NASA hereby gives notice of its intent to grant a partially exclusive patent license in the United States to practice the invention described and claimed in U.S. Patent Application Number 15/149,451 entitled, “Automatic Dependent Surveillance Broadcast (ADS-B) System with Radar for Ownship and Traffic Situational Awareness”, DRC-011-012, to Vigilant Aerospace Systems, Inc., having its principal place of business in Oklahoma City, OK. The fields of use may be limited to Civil Aviation, Civil Aviation support, and related non-military use.

DATES: The prospective partially exclusive patent license may be granted unless NASA receives written objections, including evidence and argument no later than May 16, 2018 that establish that the grant of the license would not be consistent with the requirements regarding the licensing of federally owned inventions as set forth in the Bayh-Dole Act and implementing regulations. Competing applications completed and received by NASA no later May 16, 2018 will also be treated as objections to the grant of the contemplated partially exclusive license. Objections submitted in response to this notice will not be made available to the public for inspection and, to the extent permitted by law, will not be released under the Freedom of Information Act.

ADDRESSES: Objections relating to the prospective license may be submitted to Patent Counsel, NASA Management Office of Chief Counsel, Jet Propulsion Laboratory, 4800 Oak Grove Drive, M/S 180-800C Pasadena, CA 91109. Phone (818) 854-7770. Facsimile (818) 393-2607.

FOR FURTHER INFORMATION CONTACT: Mark Homer, Patent Counsel, NASA Management Office of Chief Counsel, Jet Propulsion Laboratory, 4800 Oak Grove Drive, M/S 180-800C Pasadena, CA 91109. Phone (818) 854-7770. Facsimile (818) 393-2607.

SUPPLEMENTARY INFORMATION: This notice of intent to grant a partially exclusive patent license is issued in accordance with 35 U.S.C. 209e and 37 CFR 404.7(a)(1)(i). The patent rights in these inventions have been assigned to the United States of America as represented by the Administrator of the National Aeronautics and Space Administration. The prospective partially exclusive patent license will comply with the requirements of 35 U.S.C. 209 and 37 CFR 404.7.

Information about other NASA inventions available for licensing can be found online at http://technology.nasa.gov.

Mark Dvorscak,
Agency Counsel for Intellectual Property.

[FR Doc. 2018-09128 Filed 4-30-18; 8:45 am]

BILLING CODE 7510-13-P